DEPARTMENT OF EDUCATION

Office of Special Education and Rehabilitative Services; List of Correspondence

AGENCY: Department of Education.

ACTION: List of correspondence from July 1, 1999 through September 30, 1999.

SUMMARY: The Secretary is publishing the following list pursuant to section 607(d) of the Individuals with Disabilities Education Act (IDEA). Under section 607(d) of IDEA, the Secretary is required, on a quarterly basis, to publish in the Federal Register a list of correspondence from the Department of Education received by individuals during the previous quarter that describes the interpretations of the Department of Education of IDEA or the regulations that implement IDEA.

FOR FURTHER INFORMATION CONTACT: JoLeta Reynolds or Rhonda Weiss. Telephone: (202) 205-5507. Individuals who use a telecommunications device for the deaf (TDD) may call (202) 205-5465 or the Federal Information Relay Service (FIRS) at 1-800-877-8339 between 8:00 am and 8:00 pm, Eastern time, Monday through Friday, except Federal holidays.

Individuals with disabilities may obtain a copy of this notice in an alternate format (e.g., Braille, large print, audiotape, or computer diskette) on request to Katie Mincey, Director of the Alternate Formats Center. Telephone: (202) 205-8113.

SUPPLEMENTARY INFORMATION: The following list identifies correspondence from the Department issued between July 1, 1999 and September 30, 1999.

Included on the list are those letters that contain interpretations of the requirements of IDEA and its implementing regulations, as well as letters and other documents that the Department believes will assist the public in understanding the requirements of the law and its regulations. The date and topic addressed by a letter are identified, and summary information is also provided, as appropriate. To protect the privacy interests of the individual or individuals involved, personally identifiable information has been deleted, as appropriate.

Part A: General Provisions

Section 602—Definitions

Topic Addressed: Child With a Disability

• Letter dated September 14, 1999 to School Psychologist Anthony W. Coe, regarding criteria for establishing eligibility of children with pervasive developmental delay for services under Part B of IDEA, including any applicable State diagnostic criteria, and clarifying that the categories or conditions identified in the Diagnostic and Statistical Manual (DSM)-IV, are not synonymous with criteria for determining whether a child is a “child with a disability” under Part B of IDEA.

Topic Addressed: Related Services

• Letter dated August 2, 1999 to individual, (personally identifiable information redacted), regarding the U.S. Supreme Court's 1999 decision in Cedar Rapids Community School District v.Garret F., which clarifies that required nursing services provided during school hours can be an eligible “school health service,” the Department's views regarding the impact of the decision, and provisions in IDEA that are designed to assist States and school districts in financing the costs of required school health services.

• Letter dated August 11, 1999 to U.S. Congressman David Camp, regarding the impact on school districts of the U.S. Supreme Court's 1999 decision in Cedar Rapids Community School District v. Garret F., and an explanation of the impact of fully funding IDEA at 40 percent of the average per pupil expenditures in public elementary and secondary schools in the United States.

• Letter dated September 21, 1999 to individual, (personally identifiable information redacted), regarding the impact on school districts of the U.S. Supreme Court's 1999 decision in Cedar Rapids Community School District v. Garrett F. and clarifying that the number of disabled students requiring the one-on-one nursing services required by the Garrett F. decision is limited.

Part B: Assistance for Education of All Children with Disabilities

Section 611—Authorization; Allotment; Use of Funds; Authorization of Appropriations

Topic Addressed: Distribution of Part B Funds

• Letter dated September 20, 1999 to Walnut Creek School District Superintendent Michael De Sa, and letter dated September 20, 1999 to individual, (personally identifiable information redacted), regarding provisions in the IDEA Amendments of 1997 that revise the formula for distribution of funds awarded under Part B of IDEA and describing increases in Federal funding levels for special education programs in the past several years, despite funding reductions in other Federal programs.

Topic Addressed: Use of Part B Funds

• Letter dated August 5, 1999 to Louisiana Department of Education Director Virginia C. Beridon regarding criteria for determining whether use of Part B funds for international travel is an allowable cost.

Section 612—State Eligibility

Topic Addressed: Free Appropriate Public Education

• Letter dated August 6, 1999 to Attorney Brian J. Bocketti, regarding State flexibility under section 504 of the Rehabilitation Act of 1973 (section 504) in determining nonresident tuition rates for students with disabilities in public school choice programs as long as appropriate educational services are made available and funded.

• Letter dated September 14, 1999 to Colorado Department of Education Federal Complaints Officer Charles M. Masner, regarding the responsibility of the State educational agency or public agency to appoint a hearing officer or to resolve a State complaint if a parent alleges either that the award of a regular high school diploma to their child was appropriate or that the award of a regular high school diploma to their child was not appropriate.

• Letter dated September 29, 1999 to individual, (personally identifiable information redacted), regarding a State's right to establish proficiency standards for high school graduation and clarifying that such State standards may not be established or implemented in a nondiscriminatory manner in violation of section 504 and Title II of the Americans With Disabilities Act, and the responsibility of the individualized education program (IEP) team under Part B of IDEA to determine if eligible students with disabilities require modifications to participate in State assessments.

Topic Addressed: Least Restrictive Environment

• Letter dated September 21, 1999 to individual, (personally identifiable information redacted), regarding the need to place certain disabled students in special schools or residential schools, and clarifying that the Part B regulatory requirement for a continuum of alternative placements does not compel a State to create an appropriate residential placement within a State if an appropriate residential placement for the child is otherwise available.

Topic Addressed: State Educational Agency General Supervisory Responsibility

• Letter dated August 5, 1999 to individual, (personally identifiable information redacted), and letter dated August 5, 1999 to Florida Department of Education Bureau of Instructional Support and Community Services Chief Shan Goff, regarding a State's obligation to resolve a complaint against a school district where a child's parents no longer reside, including: (1) Requiring appropriate corrective action by that district; and (2) using the State complaint procedures as a means of addressing both systemic and child-specific violations of Part B of IDEA.

• Letter dated August 19, 1999 to California Department of Education Superintendent of Public Instruction Delaine Eastin and Youth and Adult Correctional Agency Secretary Robert Presley, informing California of its receipt of IDEA sections 611 and 619 Part B funds for Federal Fiscal Year 1999 and its status as a high risk grantee, as well as the special conditions imposed on its receipt of these grant awards.

Topic Addressed: Information Required for State Program Grants

• Letter dated August 12, 1999 to Native American Protection & Advocacy Project, Inc. Attorneys Sarah J. Somers and Therese E. Yanan regarding the obligations of all States, including the Bureau of Indian Affairs (BIA), to submit final policies and procedures that comply with the requirements of the IDEA Amendments of 1997 as a condition for receipt of their Federal Fiscal Year 2000 Part B of IDEA grant awards, the difficulties experienced by children with disabilities attending schools funded by the BIA in obtaining appropriate educational services and in resolving disagreements with schools, and the obligations of the BIA to implement a due process system that meets the requirements of section 615 of IDEA and to ensure the availability of the State complaint procedures.

Section 614—Evaluations, Eligibility Determinations, Individualized Education Programs, and Educational placements

Topic Addressed: Individualized Education Programs

• Letter dated August 5, 1999 to Ohio Protection and Advocacy Association member Suzanne Faustini regarding the absence of a requirement in Part B of IDEA that recommendations of parents or other team members not adopted by the IEP team be included in the IEP, clarifying that the IEP is developed by consensus rather than by majority vote and that the public agency must give parents prior written notice explaining why the recommendations were not adopted.

• Letter dated September 14, 1999 to Attorney Gary D. Lander regarding whether a school board member may be a member of an IEP team, at the request of a parent or a public agency.

Section 615—Procedural Safeguards

Topic Addressed: Mediation

• Letter dated August 26, 1999 to individual, (personally identifiable information redacted), regarding the mediation confidentiality requirements of the IDEA Amendments of 1997 and the Department's regulations that prohibit the use of mediation discussions as evidence in a due process hearing or civil proceeding, but clarifying congressional intent that this requirement not be used to supersede any discovery rights in such proceedings or any parental access rights under the Family Educational Rights and Privacy Act of 1974.

Topic Addressed: Discipline Procedures

• Letter dated July 27, 1999 to U.S. Congressman Rush Holt regarding obligations of school districts to take prompt and appropriate steps whenever a student with or without a disability threatens school safety and explaining the options available to school authorities in disciplining a disabled student who threatens school safety.

• Letter dated September 20, 1999 to individual, (personally identifiable information redacted), regarding options available to school authorities in disciplining students with disabilities, particularly the use of proactive measures, including appropriate behavioral interventions, and information about some of the programs that the Department funds regarding the use of appropriate behavioral interventions.

Section 619—Preschool Grants

Topic Addressed: Procedures for Allocating Subgrants to Eligible Entities

• Letter dated July 9, 1999 to Arizona Superintendent of Public Instruction Lisa Graham Keegan regarding the formula for the Preschool Grants program and how State educational agencies allocate subgrants to local educational agencies, procedures for calculating base payments and population and poverty payments, and clarifying that there are no provisions in Part B of IDEA authorizing waivers of these requirements.

Part D: National Activities To Improve Education of Children With Disabilities

Subpart 1—State Program Improvement Grants for Children With Disabilities

Section 653—Applications

Topic Addressed: Information About State Program Improvement Grants

• OSEP memorandum 99-14 dated July 30, 1999, to interested parties providing guidance related to State program improvement grants.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free at 1-800-293-6498; or in the Washington, D.C., area at (202) 512-1530.

Note: The official version of this document is the document published in the Federal Register. Free Internet access to the official edition of the Federal Register and the Code of Federal Regulations is available on GPO Access at: http://www.access.gpo.gov/nara/index.html

(Catalog of Federal Domestic Assistance Number 84.027, Assistance to States for Education of Children with Disabilities)
Dated: March 14, 2000.
Judith E. Heumann,
Assistant Secretary for Special Education and Rehabilitative Services.

[FR Doc. 00-6649 Filed 3-16-00; 8:45 am]

BILLING CODE 4000-01-U